DEPARTMENT OF ENERGY

Federal Energy Regulatory Commission

Sunshine Act Meeting

Federal Register Citation of Previous Announcement: April 22, 2002, 67 FR 19568.

Previously Announced Time and Date of Meeting: April 24, 2002

10:00 a.m.

Change in the Meeting: The following Docket Nos. and Item No. has been added to the Commission meeting agenda of April 24, 2002.

Item No., | Docket No., and Company
E-4 | EC99-101-006, Northern States Power Company (Minnesota) and New Century Energies, Inc.
H-4 | AD02-16-000, Report on Delegated Actions.

Magalie R. Salas,
Secretary.

[FR Doc. 02-10656 Filed 4-25-02; 4:22 pm]

BILLING CODE 6717-01-P